DEPARTMENT OF ENERGY

48 CFR Part 952

RIN 1990-AA37

Contractor Legal Management Requirements; Acquisition Regulations; Correction

AGENCY: Department of Energy.

ACTION: Final rule; correction.

SUMMARY: The Department of Energy (DOE) is correcting a final rule that appeared in the Federal Register of May 3, 2013 (78 FR 25795). In this document, DOE revised existing regulations covering contractor legal management requirements. Conforming amendments were also made to the Department of Energy Acquisition Regulation (DEAR).

DATES: This correction is effective July 2, 2013.

FOR FURTHER INFORMATION CONTACT: Mr. Eric Mulch, Attorney-Adviser, U.S. Department of Energy, Office of General Counsel, 1000 Independence Avenue SW., Washington, DC 20585-0121. Telephone: (202) 287-5746. Email: eric.mulch@hq.doe.gov.

SUPPLEMENTARY INFORMATION: In FR Doc. 2013-10485, appearing on page 25795 in the Federal Register of Friday, May 3, 2013, the following correction is made:

952.231-71 [Corrected]

On page 25817, second column, DEAR 952.231-71(f)(1)(i) is corrected to read:

“(i) Which are otherwise unallowable by law or the provisions of this contract, including the cost reimbursement limitations contained in 48 CFR part 970.31, as supplemented by 48 CFR part 931;”

Issued in Washington, DC, on May 14, 2013.
Paul Bosco,
Director, Office of Acquisition and Project Management.

[FR Doc. 2013-11927 Filed 5-17-13; 8:45 am]

BILLING CODE 6450-01-P